DEPARTMENT OF TRANSPORTATION

National Highway Traffic Safety Administration

[Docket No. NHTSA-2015-0097]

Asleep at the Wheel: A Nation of Drowsy Drivers

AGENCY: National Highway Traffic Safety Administration (NHTSA), U.S. Department of Transportation (DOT).

ACTION: Notice

SUMMARY: The National Highway Traffic Safety Administration (NHTSA) is announcing a meeting that will be held in Washington, DC on November 4-5, 2015 to kick off a new national drowsy driving initiative. The NHTSA Drowsy Driving Forum will include presentations and discussions on a number of topics, including problem identification and measurement of drowsy driving, public awareness and education, public and corporate policy, vehicle technology, and balancing the needs for research and action. Attendance at the meeting is limited to invited participants because of space limitations of the DOT Conference Center. However, the meeting will be available for live public viewing on the NHTSA Web site (www.nhtsa.gov). Remote viewers will be able to submit questions online to the forum moderators.

DATES: The meeting will be held on November 4th, 2015 from 8:00 a.m. to 5:30 p.m. and on November 5th, 2015 from 8:00 a.m. to 12:00 p.m.

ADDRESSES: The meeting will be held in the Conference Center of the U.S. Department of Transportation, 1200 New Jersey Avenue SE., Washington, DC 20590.

FOR FURTHER INFORMATION CONTACT: Dr. J. Stephen Higgins, Telephone: 202-366-3976; email address: james.higgins@dot.gov.

SUPPLEMENTARY INFORMATION: During National Drowsy Driving Prevention Week NHTSA will host a forum to launch a new national drowsy driving initiative. The NHTSA Drowsy Driving Forum will begin with an introduction by NHTSA Administrator Mark Rosekind, followed by a presentation of the new NHTSA Drowsy Driving Plan addressing priorities for research, safety programs, and vehicle technology. The forum will also include panels focusing on problem identification and measurement of drowsy driving, public awareness and education, public and corporate policy, vehicle technology, and balancing the needs for research and action.

Invited participants will include representatives with expertise a number of topic areas including the sleep sciences, traffic safety, and public health, as well as from diverse organizations including advocacy groups, industry, state government, and other Federal Agencies.

NHTSA will use this forum to discuss research and program objectives, consider priority public policy needs, stimulate connections between diverse stakeholders, and identify core public education needs to address the risks, consequences and countermeasures related to drowsy driving. Addressing the risks of drowsy driving is a top priority for this Administration.

Workshop Procedures. NHTSA will conduct the meeting informally. Thus, technical rules of evidence will not apply. The workshop will consist of presentations and panels. Each panel will have two short presentations, a roundtable discussion among the panel members, and questions from the other participants and from remote web viewers to be discussed by the meeting participants.

Authority: 49 U.S.C. 30182; 23 U.S.C. 403.

Issued on: September 30, 2015.
Jeff Michael,
Associate Administrator, Research and Program Development.

[FR Doc. 2015-25376 Filed 10-5-15; 8:45 am]

BILLING CODE 4910-59-P